DEPARTMENT OF THE TREASURY

Fiscal Service

Surety Companies Acceptable on Federal Bonds—Non-Renewal: Greenwich Insurance Company

AGENCY: Bureau of the Fiscal Service, Fiscal Service, Department of the Treasury.

ACTION: Notice.

SUMMARY: This is Supplement No. 11 to the Treasury Department Circular 570, 2015 Revision, published July 1, 2015, at 80 FR 37735.

FOR FURTHER INFORMATION CONTACT: Surety Bond Section at (202) 874-6850.

SUPPLEMENTARY INFORMATION: Notice is hereby given that the Certificate of Authority issued by the Treasury to the above-named company under 31 U.S.C. 9305 to qualify as an acceptable surety on Federal bonds will not be renewed, effective June 30, 2016. Federal bond-approving officials should annotate their reference copies of the Treasury Department Circular 570 (“Circular”), 2015 Revision, to reflect this change.

With respect to any bonds currently in force with the company, bond-approving officers may let such bonds run to expiration and need not secure new bonds. However, no new bonds should be accepted from the company, and bonds that are continuous in nature should not be renewed.

The Circular may be viewed and downloaded through the Internet at www.fiscal.treasury.gov/fsreports/ref/suretyBnd/c570.htm.

Questions concerning this notice may be directed to the U.S. Department of the Treasury, Bureau of the Fiscal Service, Financial Accounting and Services Division, Surety Bond Section, 3700 East-West Highway, Room 6D22, Hyattsville, MD 20782.

Dated: June 30, 2016.
Melvin Saunders,
Acting Manager, Financial Accounting and Services Branch.

[FR Doc. 2016-15999 Filed 7-6-16; 8:45 am]

BILLING CODE 4810-35-P